NUCLEAR REGULATORY COMMISSION

[NRC-2020-0142]

Report to Congress on Abnormal Occurrences: Fiscal Year 2019; Dissemination of Information

AGENCY: Nuclear Regulatory Commission.

ACTION: NUREG; issuance.

SUMMARY: The U.S. Nuclear Regulatory Commission (NRC) is issuing NUREG-0090, Volume 42, “Report to Congress on Abnormal Occurrences: Fiscal Year 2019.” The report describes those events that the NRC or an Agreement State identified as abnormal occurrences (AOs) during fiscal year (FY) 2019, based on the criteria defined in the report. The report describes nine events at Agreement State-licensed facilities and no events at NRC-licensed facilities.

DATES: NUREG-0090, Volume 42, is available June 22, 2020.

ADDRESSES: Please refer to Docket ID NRC-2020-0142 when contacting the NRC about the availability of information regarding this document. You may obtain publicly-available information related to this document using any of the following methods:

• Federal Rulemaking Website: Go to https://www.regulations.gov and search for Docket ID NRC-2020-0142. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

FOR FURTHER INFORMATION CONTACT: Minh-Thuy Nguyen, Office of Nuclear Regulatory Research, U.S. Nuclear Regulatory Commission, Washington, DC 20555-0001; telephone: 301-415-5163, email: Minh-Thuy.Nguyen@nrc.gov.

SUPPLEMENTARY INFORMATION: Section 208 of the Energy Reorganization Act of 1974, as amended (Pub. L. 93-438), defines an “abnormal occurrence” as an unscheduled incident or event that the NRC determines to be significant from the standpoint of public health or safety. The AO report, NUREG-0090, Volume 42, “Report to Congress on Abnormal Occurrences: Fiscal Year 2019” (ADAMS Accession No. ML20162A165), describes those events that the NRC identified as AOs during FY 2019, based on the criteria defined in Appendix A of the report.

This report describes nine events in Agreement States and no events involving NRC licensees that were identified as AOs during FY 2019. Seven AOs were medical events as defined in title 10 of the Code of Federal Regulations (10 CFR) part 35, “Medical Use of Byproduct Material.” One AO was a human exposure event and one AO involved the theft and recovery of Category 2 sources, as defined in 10 CFR part 37, “Physical Protection of Category 1 and Category 2 Quantities of Radioactive Material.” The NRC did not identify any events at commercial nuclear power plants as AOs.

The NRC identified one event during FY 2019 that meets the guidelines for inclusion in Appendix B, “Other Events of Interest.” The event received significant media coverage due to extensive contamination of personnel and building structures due to the breaching of a sealed cesium-137 source. No events meet the guidelines for inclusion in Appendix C, “Updates of Previously Reported Abnormal Occurrences.”

Agreement States are the 39 U.S. States that currently have entered into formal agreements with the NRC pursuant to Section 274 of the Atomic Energy Act of 1954, as amended (AEA), to regulate certain quantities of AEA-licensed material at facilities located within their borders.

The Federal Reports Elimination and Sunset Act of 1995 (Pub. L. 104-68) requires that AOs be reported to Congress annually. The full report, NUREG-0090, Volume 42, “Report to Congress on Abnormal Occurrences: Fiscal Year 2019,” is also available electronically at the NRC's website at https://www.nrc.gov/reading-rm/doc-collections/nuregs/staff/.

Dated: June 17, 2020.
For the Nuclear Regulatory Commission.
Annette L. Vietti-Cook,
Secretary of the Commission.

[FR Doc. 2020-13347 Filed 6-19-20; 8:45 am]

BILLING CODE 7590-01-P